DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2018 National Survey on Drug Use and Health (OMB No. 0930-0110)—Revision

The National Survey on Drug Use and Health (NSDUH) is a survey of the U.S. civilian, non-institutionalized population aged 12 years old or older. The data are used to determine the prevalence of use of tobacco products, alcohol, illicit substances, and illicit use of prescription drugs. The results are used by SAMHSA, the Office of National Drug Control Policy (ONDCP), federal government agencies, and other organizations and researchers to establish policy, direct program activities, and better allocate resources.

While NSDUH must be updated periodically to reflect changing substance use and mental health issues and to continue producing current data, for the 2018 NSDUH only the following minor changes are planned: (1) At the request of ONDCP, re-inserted the marijuana marketplace module, previously included in the 2014 NSDUH (as well as prior years), into the respondent-administered portion of the 2018 questionnaire; (2) the addition of four new questions, asked only of respondents age 18 and older, about the perception of problems with and recovery from drug/alcohol and mental health problems; and (3) included other minor wording changes to improve the flow of the interview, increase respondent comprehension or to be consistent with text in other questions.

The marijuana marketplace module consists of a series of questions that seek to gather data such as the location, quantity, cost and type of marijuana being purchased across the nation. This module is unchanged from the version last included in the 2014 NSDUH. As with all NSDUH/NHSDA surveys conducted since 1999, the sample size of the survey for 2018 will be sufficient to permit prevalence estimates for each of the fifty states and the District of Columbia. Prior to 2002, the NSDUH was referred to as the National Household Survey on Drug Abuse (NHSDA).

The total annual burden estimate is shown below.

Annualized Estimated Burden for 2018 NSDUH
Instrument | Number of respondents | Responses per respondent | Total number of responses | Hours per response | Total burden hours
Household Screening | 133,586 | 1 | 133,586 | 0.083 | 11,088
Interview | 67,507 | 1 | 67,507 | 1.000 | 67,507
Screening Verification | 4,008 | 1 | 4,008 | 0.067 | 269
Interview Verification | 10,126 | 1 | 10,126 | 0.067 | 678
Total | 133,586 |  | 215,227 |  | 79,542

Send comments to Summer King, SAMHSA Reports Clearance Officer, Room 15E57B, 5600 Fishers Lane, Rockville, MD 20857 OR email a copy at summer.king@samhsa.hhs.gov.

Written comments should be received by June 19, 2017.

Summer King,
Statistician.

[FR Doc. 2017-08010 Filed 4-19-17; 8:45 am]

BILLING CODE 4162-20-P